DEPARTMENT OF AGRICULTURE

Animal and Plant Health Inspection Service

[Docket No. APHIS-2013-0047]

Enhancing Agricultural Coexistence; Extension of Comment Period

ACTION: Notice; extension of comment period.

SUMMARY: We are extending the comment period for a request for information soliciting comments on ways to foster communication and collaboration among those involved in diverse agricultural production systems in order to further agricultural coexistence. This action will allow interested persons additional time to prepare and submit comments.

DATES: The comment period for the notice published on November 4, 2013 (78 FR 65960) is extended. We will consider all comments that we receive on or before March 4, 2014.

ADDRESSES: You may submit comments by either of the following methods:

• Federal eRulemaking Portal: Go to http://www.regulations.gov/#!documentDetail;D=APHIS-2013-0047-0001.

• Postal Mail/Commercial Delivery: Send your comment to Docket No. APHIS-2013-0047, Regulatory Analysis and Development, PPD, APHIS, Station 3A-03.8, 4700 River Road Unit 118, Riverdale, MD 20737-1238.

Supporting documents and any comments we receive on this docket may be viewed at http://www.regulations.gov/#!docketDetail;D=APHIS-2013-0047 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Ms. Meghan Klingel, Acting Advisor for State and Stakeholder Relations, Office of the Deputy Administrator, LPA, APHIS, 4700 River Road Unit 51, Riverdale, MD 20737-1231; (301) 851-4055, email: meghan.k.klingel@aphis.usda.gov.

SUPPLEMENTARY INFORMATION: On November 4, 2013, we published in the Federal Register (78 FR 65960-65962, Docket No. APHIS-2013-0047) a notice seeking comment on how the U.S. Department of Agriculture (USDA) can best foster communication and collaboration among those involved in diverse agricultural systems on the topic of coexistence as well as how USDA can best communicate and collaborate with those entities.

Comments on the notice were required to be received on or before January 3, 2014. We are extending the comment period on Docket No. APHIS-2013-0047 for an additional 60 days. This action will allow interested persons additional time to prepare and submit comments.

Done in Washington, DC, this 23rd day of December 2013.
Kevin Shea,
Administrator, Animal and Plant Health Inspection Service.

[FR Doc. 2013-31192 Filed 12-30-13; 8:45 am]

BILLING CODE 3410-34-P